COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes products previously furnished by such agencies.

DATES: Comments must be received on or before: November 18, 2018.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to provide the service listed below from a nonprofit agency employing persons who are blind or have other severe disabilities.

The following service is proposed for addition to the Procurement List for production by the nonprofit agency listed:

Service

Service Type: Custodial Service

Mandatory for: U.S. Army, ACC Aberdeen, PEO Facilities, Fort Belvoir, VA

Mandatory Source(s) of Supply: Melwood Horticultural Training Center, Inc., Upper Marlboro, MD

Contracting Activity: Army Contracting Command—Aberdeen Proving Ground, Natick Contracting Division

Deletions

The following products are proposed for deletion from the Procurement List:

Products

NSN(s)—Product Name(s):

7930-01-517-4178—Cleaner, Industrial, Multi-Purpose, SKILCRAFT Savvy Green, 32 oz

7930-01-517-4171—Cleaner, Industrial, Multi-Purpose, SKILCRAFT Savvy Green, 1 GL

7930-01-517-4172—Cleaner, Industrial, Multi-Purpose, SKILCRAFT Savvy Green, 5 GL

7930-01-517-4177—Cleaner, Industrial, Multi-Purpose, SKILCRAFT Savvy Green, 55 GL

7930-01-517-2726—Cleaner, Heavy Duty, Industrial, Multi-Purpose, SKILCRAFT Savvy Green Plus, 32 oz.

7930-01-517-4185—Cleaner, Industrial, Multi-Purpose, SKILCRAFT Savvy Green, 1 gal

7930-01-517-4186—Cleaner, Heavy Duty, Industrial, Multi-Purpose, SKILCRAFT Savvy Green Plus, 5 GL

7930-01-517-4187—Cleaner, Heavy Duty, Industrial, Multi-Purpose, SKILCRAFT Savvy Green Plus, 55 GL

Mandatory Source(s) of Supply: VisionCorps, Lancaster, PA

Contracting Activities:

General Services Administration, Fort Worth, TX

Department of Veterans Affairs, Strategic Acquisition Center

Michael R. Jurkowski,
Business Management Specialist Business Operations.

[FR Doc. 2018-22788 Filed 10-18-18; 8:45 am]

BILLING CODE 6353-01-P